DEPARTMENT OF ENERGY

Environmental Management Site-Specific Advisory Board Chairs Meeting

AGENCY: Department of Energy.

ACTION: Notice of open meeting.

SUMMARY: This notice announces a meeting of the Environmental Management Site-Specific Advisory Board (EM SSAB) Chairs Meeting. The Federal Advisory Committee Act (Pub. L. No. 92-463, 86 Stat. 770) requires that public notice of these meeting be announced in the Federal Register.

DATES: August 27-August 29, 2001.

ADDRESSES: Santa Fe Hilton, 100 Sandoval Street, Santa Fe, New Mexico 87501.

FOR FURTHER INFORMATION CONTACT: Barbara Harrelson, Northern New Mexico Citizens' Advisory Board, 1660 Old Pecos Trail, Suite B, Santa Fe, NM 87505. Phone (505) 989-1662 or 1-800-218-5942; Fax (505) 989-1752 or e-mail: bharrelson@doeal.gov.

SUPPLEMENTARY INFORMATION:

Purpose of the Board

The purpose of the Board is to make recommendations to DOE and its regulators in the areas of environmental restoration, waste management, and related activities.

Tentative Agenda

Sunday, August 26

2:00-5:00 p.m.—Registration, outside of Mesa Ballroom.

5:00-7:00 p.m.—Opening reception, Frederic Vigil's Galleria de Pintor, 1107 Canyon Road.

Monday, August 27

7:30-8:30 a.m.—Registration, outside of Mesa Ballroom.

8:30-9:00 a.m.—Welcome and Introductions.

9:00-10:15 a.m.—Message from Jessie Roberson and Discussion of the Top-Down Review.

10:30-11:30 a.m.—Round Robin Reports from all Chairs on Current Issues and Concerns.

11:30-12:45 p.m.—Lunch.

12:45-2:00 p.m.—Waste Disposition Maps.

2:15-3:30 p.m.—DOE's Cleanup Budget.

3:45-5:15 p.m.—SSAB Input to DOE's Cleanup Budget.

5:15-5:30 p.m.—Public Comment.

Tuesday, August 28

8:30-8:45 a.m.—Review of the First Day, Orientation to Second Day.

8:45-10:15 a.m.—Scope of the SSABs and their Relationship with DOE.

10:30-11:15 a.m.—Upcoming SSAB Groundwater Workshop.

11:15-12:15 p.m.—Previous Workshops, Future Workshops.

12:15-1:30 p.m.—Lunch.

1:30-3:00 p.m.—DOE's Responses to SSAB Recommendations/Advice and Factors that Contribute to SSAB Effectiveness.

3:00-3:15 p.m.—Public Comment.

3:15-3:30 p.m.—Next Steps & Meeting Evaluation.

Wednesday, August 29

8:30 a.m.-4:30 p.m.—Choice of all day tour to Los Alamos which includes the Los Alamos National Laboratory, walking tour of downtown Los Alamos and areas affected by the 2000 Cerro Grande Fire or half-day tour which includes Los Alamos National Laboratory.

Thursday, August 30

Waste Isolation Pilot Plant Tour is available

Public Participation

The meeting is open to the public. Written statements may be filed with the Committee either before or after the meeting. Individuals who wish to make oral statements pertaining to agenda items should contact Barbara Harrelson at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting.

Minutes

Minutes of this meeting will be available for public review and copying at the Department of Energy's Information Resource Center at 1660 Old Pecos Trail, Suite B, Santa Fe, New Mexico, 87505 between 7:30 a.m. and 5:30 p.m. Monday through Friday, or by writing or calling Barbara Harrelson at the address or telephone number listed above.

Issued at Washington, DC on August 6, 2001.
Belinda G. Hood,
Acting Deputy Advisory Committee Management Officer.

[FR Doc. 01-20080 Filed 8-9-01; 8:45 am]

BILLING CODE 6450-01-P